DEPARTMENT OF ENERGY

Federal Energy Regulatory Commission

[Project No. 6132-006]

Facilitators Improving Salmonid Habitat (FISH); Notice of Extension of Time to Comment on Environmental Assessment

November 29, 2001.

In accordance with the National Environmental Policy Act of 1969 and the Federal Energy Regulatory Commission's (Commission's) regulations, the Office of Energy Projects has reviewed the application dated July 11, 2001, requesting the Commission's approval to surrender the Exemption from licensing and removal of a dam at the John C. Jones Project, located on the Marsh Stream, a tributary of the Penobscot River, near the towns of Winterport and Frankfort, in Waldo County, Maine, and has prepared an Environmental Assessment (EA) for the proposed and alternative actions. A notice issued October 5, 2001, established November 5, 2001, as the deadline for comments on the EA.

In response to our notice, several requests were made to extend our November 5, 2001, comment deadline by six months to prepare and present new information on recreational, public safety and environmental concerns and projected reduction of property values. The parties cite the need to gather additional information, which should be adequately done in 60 days; this is in addition to the several months that have passed since the August 7, 2001, application public notice issuance date. Accordingly, we are granting an extension of 60 days from the date of this notice to file additional information on our EA.

Comments should be addressed to: The Secretary, Federal Energy Regulatory Commission, 888 First Street, NE., Washington, DC, 20426. Please affix “John C. Jones Project No. 6132-006” to the first page of your comments. All timely filed comments will be considered in the Commission order addressing the proposed surrender of exemption and dam removal. Comments, protests and interventions may be filed electronically via the Internet in lieu of paper. See 18 CFR 385.2001(a)(1)(iii) and the instructions on the Commission's web site under the “e-Filing” link.

For further information, please contact Jack Hannula at (202) 219-0116.

Linwood A. Watson, Jr.,
Acting Secretary.

[FR Doc. 01-30121 Filed 12-4-01; 8:45 am]

BILLING CODE 6717-01-P